DEPARTMENT OF TRANSPORTATION

Federal Highway Administration

Draft Supplement Environmental Impact Statement for US 411 Connector, Bartow County, GA

AGENCY: Federal Highway Administration (FHWA), DOT.

ACTION: Extension of Comment Period.

SUMMARY: In compliance with the National Environmental Policy Act of 1969, the FHWA, in cooperation with the Georgia Department of Transportation (GDOT), have jointly prepared a Draft Supplemental Environmental Impact Statement (DSEIS) for proposed transportation improvements in the US 411 Corridor. A Notice of Availability published in the Federal Register on October 12, 2005 included a comment period through November 21, 2005. This date has been revised and extended to December 5, 2005, to coincide with the date listed in the EPA Federal Register Notice.

DATES: The comment period will end on December 5, 2005.

FOR FURTHER INFORMATION CONTACT: Mr. Harvey D. Keepler, State Environmental/Location Engineer, Georgia Department of Transportation, 3993 Aviation Circle, Atlanta, GA 30336-1593.

Dated: Issued on: November 15, 2005.
Mr. Robert M. Callan,
Division Administrator, Federal Highway Administration, Atlanta, Georgia.

[FR Doc. 05-22965 Filed 11-21-05; 8:45 am]

BILLING CODE 4910-22-M